FEDERAL COMMUNICATIONS COMMISSION

47 CFR Part 11

[EB Docket No. 04-296, FCC 05-191]

Review of the Emergency Alert System

AGENCY: Federal Communications Commission.

ACTION: Final rule; announcement of effective date.

SUMMARY: The Commission adopted rules that expanded the reach of the Emergency Alert System (EAS), as currently constituted, to cover digital communications technologies that are increasingly being used by the American public to receive news and entertainment. This document announces the effective date of these published rules.

DATES: The amendments to §§ 11.15, 11.21, 11.35, 11.51, 11.52, 11.55, and 11.61 published at 70 FR 71023, November 25, 2005 became effective on February 21, 2006.

FOR FURTHER INFORMATION CONTACT: Jean Ann Collins, Public Safety and Homeland Security Bureau, (202) 418-2792.

SUPPLEMENTARY INFORMATION: On Feburary 21, 2006, the Office of Management and Budget (OMB) approved the information collection requirements contained in §§ 11.15, 11.21, 11.35, 11.51, 11.52, 11.55, and 11.61 pursuant to OMB Control No. 3060-0207. Accordingly, the information collection requirements contained in these rules became effective on February 21, 2006.

Federal Communications Commission.
Marlene H. Dortch,
Secretary.

[FR Doc. E6-21770 Filed 12-19-06; 8:45 am]

BILLING CODE 6712-01-P